DEPARTMENT OF STATE

22 CFR Part 62

[Public Notice: 9215]

Exchange Visitor Program—Waiver of Certain Program Eligibility Requirements

AGENCY: Department of State.

ACTION: Change of program duration for current YES program students from Yemen.

SUMMARY: In accordance with the General Provisions of the Exchange Visitor Program regulations, the Department's Assistant Secretary for Educational and Cultural Affairs has waived certain program eligibility requirements with respect to an educational and cultural exchange program established pursuant to an arrangement between the Government of the United States of America and the Government of the Republic of Yemen.

DATES: Effective August 14, 2015.

FOR FURTHER INFORMATION CONTACT: Mara Tekach, Deputy Assistant Secretary for Professional Exchanges, U.S. Department of State, SA-5, Floor 5, 2200 C Street NW., Washington, DC 20522; or email at JExchanges@state.gov.

SUPPLEMENTARY INFORMATION: The Department of State (the Department) administers the Exchange Visitor Program pursuant to the Mutual Educational and Cultural Exchange Act of 1961, as amended (22 U.S.C. 2451, et. seq.), also known as the Fulbright-Hays Act (the Act). The purpose of the Act is to increase mutual understanding between the people of the United States and the people of other countries, including through educational and cultural exchanges. The Department's implementing regulations for the Exchange Visitor Program are set forth at 22 CFR part 62.

In accordance with 22 CFR 62.1(c), the Department's Assistant Secretary for Educational and Cultural Affairs has waived 22 CFR 62.25(c) with respect to an educational and cultural exchange program established pursuant to an arrangement between the Government of the United States of America and the Government of the Republic of Yemen. The program, which begins in August 2015, is for approximately thirty students from the Republic of Yemen currently in the United States on the Kennedy-Lugar Youth Exchange & Study Program (YES). This waiver of 22 CFR 62.25(c), which imposes a one-year maximum program duration for secondary school participants, will allow those students to receive continued educational and cultural programming offered by the Department for a period of one additional year.

Mara Tekach,
Deputy Assistant Secretary for Professional Exchanges, Bureau of Educational and Cultural Affairs.

[FR Doc. 2015-19586 Filed 8-13-15; 8:45 am]

BILLING CODE 4710-05-P